DEPARTMENT OF ENERGY

Federal Energy Regulatory Commission

[Docket No. RP03-391-002]

Questar Southern Trails Pipeline Company; Notice of Compliance Filing

July 2, 2003.

Take notice that on June 27, 2003, Questar Southern Trails Pipeline Company (Southern Trails) tendered for filing as part of its FERC Gas Tariff, Original Volume No. 1, Substitute Second Revised Sheet No. 103 and Substitute Second Revised Sheet No. 105, with an effective date of July 1, 2003.

Southern explains that, on May 1, 2003, and May 23, 2003, Southern Trails filed tariff sheets to comply with Order No. 587-R. Order No. 587-R requires interstate pipelines to incorporate Version 1.6 of the consensus standards promulgated by the Wholesale Gas Quadrant (WGQ) of the North American Energy Standards Board (NAESB). Southern further states that, on June 17, 2003, the Commission issued an order in Docket No. RP03-391-000 and -001 and, with minor exceptions, accepted Southern Trails' tariff sheets to be effective July 1, 2003. The Commission, in the June 17 Order, directed Southern Trails to file revisions to its tariff sheets within ten days of the June 17 Order. Southern states that this filing is tendered to comply with the Commission's June 17 Order.

Southern Trails states that a copy of this filing has been served upon its customers and the Public Service Commissions of Utah, New Mexico, Arizona, and California.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 8, 2003.

Magalie R. Salas,
Secretary.

[FR Doc. 03-18941 Filed 7-24-03; 8:45 am]

BILLING CODE 6717-01-P